DEPARTMENT OF HOMELAND SECURITY

Coast Guard

[USCG-2006-26115]

Ship Security Alert System Notices

AGENCY: Coast Guard, DHS.

ACTION: Notice.

SUMMARY: The Coast Guard announces a change in the e-mail address that U.S. vessels equipped with a Ship Security Alert System (SSAS) can use to send emergency notices to the Coast Guard when their security is threatened. In these emergencies, a vessel notifies the Coast Guard of the incident directly or through a third party. The SSAS notice may be communicated through various media. If it is sent as an e-mail, it must be sent to the new address: ssas@uscg.mil.

DATES: The new e-mail address is already functional. The current e-mail address will continue to accept Ship Security Alert System notices in the near term. All equipment must use the new e-mail address before May 2007.

FOR FURTHER INFORMATION CONTACT: If you have questions regarding this notice, call LT Frances Fazio, U.S. Coast Guard, telephone 202-372-1235 or via e-mail frances.fazio@uscg.mil.

SUPPLEMENTARY INFORMATION: Certain U.S. vessels must comply with the requirement of the International Convention of Safety of Life at Sea (SOLAS), Regulation XI-2/6, that the vessel must be fitted with an SSAS. The Coast Guard provides guidance on implementing this requirement, in Enclosure 5 of Navigation and Vessel Information Circular (NVIC) 04-03, available on the Internet at http://www.uscg.mil/hq/g-m/nvic/03/NVIC_04-03_CH-1.pdf. SSAS notices can be provided through various media. The Coast Guard recently upgraded some of its internal communication systems, and as part of the upgrade, SSAS notices sent via e-mail will be redundantly routed so that a notice will reach the Coast Guard even if one Coast Guard computer network fails. The upgrade also required the revision of all Coast Guard e-mail addresses. Any vessel owner or operator whose SSAS relies on e-mail must make sure their equipment is updated with the new address, ssas@uscg.mil, and must correct the address (“pen and ink” will suffice) in the vessel's approved vessel security plan or SSAS annex. Include the new e-mail address in your next plan or SSAS annex submission to the Coast Guard's Marine Safety Center; but if this is the only change you are making to an approved plan or annex, you do not need to resubmit the plan or annex for re-approval, solely for that reason.

Dated: November 28, 2006.
J.G. Lantz,
Director of National and International Standards, Assistant Commandant for Prevention.

[FR Doc. E6-20357 Filed 11-30-06; 8:45 am]

BILLING CODE 4910-15-P